DEPARTMENT OF TRANSPORTATION

Surface Transportation Board

[STB Finance Docket No. 35004]

The Kansas City Southern Railway Company—Temporary Trackage Rights Exemption—Union Pacific Railroad Company

Pursuant to a written trackage rights agreement dated February 28, 2007, Union Pacific Railroad Company (UP) has agreed to grant temporary overhead trackage rights to The Kansas City Southern Railway Company (KCSR): (1) On UP's Little Rock Subdivision, extending between milepost 51.0 at Jefferson, TX, and milepost 344.3 at North Little Rock, AR; and (2) on UP's Van Buren and Wagoner Subdivisions, extending between milepost 344.3 at North Little Rock, AR, and milepost 526.7 at Sallisaw, OK, a distance of approximately 379.3 miles.

The transaction is scheduled to be consummated on April 5, 2007, the effective date of the exemption (30 days after the exemption was filed). The temporary trackage rights are scheduled to expire on July 1, 2007.

The sole purpose of the temporary trackage rights is to facilitate the bridging of KCSR's train service while KCSR's lines on its Shreveport and Heavener Subdivisions are out of service due to maintenance operations over those Subdivisions.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employees affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the effectiveness of the exemption. Stay petitions must be filed by March 29, 2007 (at least 7 days before the exemption becomes effective).

An original and 10 copies of all pleadings, referring to STB Finance Docket No. 35004, must be filed with the Surface Transportation Board, 395 E Street, SW., Washington, DC 20423-1001. In addition, a copy of each pleading must be served on William A. Mullins, 2401 Pennsylvania Ave., NW., Suite 300, Washington, DC 20037.

Board decisions and notices are available on our Web site at http://www.stb.dot.gov.

Decided: March 9, 2007.
By the Board, David M. Konschnik, Director, Office of Proceedings.
Vernon A. Williams,
Secretary.

[FR Doc. E7-4770 Filed 3-15-07; 8:45 am]

BILLING CODE 4915-01-P